SECURITIES AND EXCHANGE COMMISSION

[File No. 500-1]

Onyx Service & Solutions, Inc.; Order of Suspension of Trading

January 27, 2012.

It appears to the Securities and Exchange Commission that there is a lack of current and accurate information concerning the securities of Onyx Service & Solutions, Inc. (“ONYX”) because of questions regarding the accuracy of assertions by ONYX in press releases concerning, among other things, the company's business projects and prospects.

The Commission is of the opinion that the public interest and the protection of investors require a suspension of trading in the securities of the above-listed company.

Therefore, it is ordered, pursuant to Section 12(k) of the Securities Exchange Act of 1934, that trading in the securities of the above-listed company is suspended for the period from 9:30 a.m. EST, on January 27, 2012 through 11:59 p.m. EST, on February 9, 2012.

By the Commission.
Elizabeth M. Murphy,
Secretary.

[FR Doc. 2012-2160 Filed 1-27-12; 4:15 pm]

BILLING CODE 8011-01-P